DEPARTMENT OF LABOR

Office of Workers' Compensation Programs

Agency Information Collection Activities; Comment Request; Claim for Reimbursement of Benefit Payments and Claims Expense Under the War Hazards Compensation Act; Correction

AGENCY: Division of Federal Employees' Compensation, Office of Workers' Compensation Programs, US Department of Labor.

ACTION: Request for public comments; correction.

SUMMARY: The Department of Labor (DOL) is correcting a notice that appeared in the Federal Register on September 10, 2025, at 90 FR 43642. The information provided in the Background section contained an error. DOL is issuing this correction to provide the correct information.

FOR FURTHER INFORMATION CONTACT: Anjanette Suggs, Office of Workers' Compensation Programs, OWCP at suggs.anjanette@dol.gov (email); (202) 354-9660 (phone).

SUPPLEMENTARY INFORMATION: In FR Doc 2025-17326 appearing at 90 FR 436462 in the Federal Register of September 10, 2025, on page 43642 in the 1st column, the following corrections are made to the Current Actions section:

Under “OWCP/DFEC Forms” a form was omitted. The Notice of Injury or Disease and Claim for Benefits under the War Hazards Compensation Act (WH-1) should have also been listed as a form added to this collection and the burden totals are corrected as below.

Currently, OWCP utilizes the CA-278 form for insurance carriers and self-insured to request reimbursement. The form is used for submission of reimbursement requests. While the form is also used for initial claim intake, it was not designed for this purpose. There is currently no adequate form for beneficiaries to file initial claims under the WHCA.

Under section 1701, the WHCA states that compensation for injury or death resulting from a war-risk hazard may be claimed by person covered as specified in this section of the WHCA. Section 1701 provides the authority to administer benefits for persons covered under the WHCA. The CA-278 form exists that allows insurance carriers or self-insured to claim reimbursements of benefits paid due to an injury or death resulting from a covered War Hazard under the WHCA.

To this end, the Department of Labor is proposing a new form allowing beneficiaries to file a claim under the WHCA. This new form, WH-1, will simplify the process of filing an initial claim for benefits and gather the necessary information to expedite claim decisions and reimbursements. The regulations under the WHCA and the FECA that support the creation of the new WH-1 form are also the regulations used to implement the existing CA-278 form. Therefore, the revision to the existing OMB Control No. 1240-0006 will include the new WH-1 form.

OMB Control Number: 1240-0006.

Number of Respondents: 14.

Number of Responses: 2,528.

Annual Burden Hours: 1,264 hours.

Annual Respondent or Recordkeeper Cost: $5,840.00.

Comments submitted in response to this notice will be summarized in the request for Office of Management and Budget approval of the proposed information collection request; they will become a matter of public record and will be available at https://www.reginfo.gov.

Anjanette Suggs,
Certifying Officer.

[FR Doc. 2025-18776 Filed 9-26-25; 8:45 am]

BILLING CODE 4510-CF-P